DEPARTMENT OF TRANSPORTATION

Maritime Administration

[Docket Number: MARAD-2001-10001]

Requested Administrative Waiver of the Coastwise Trade Laws

AGENCY: Maritime Administration, Department of Transportation.

ACTION: Invitation for public comments on a requested administrative waiver of the Coastwise Trade Laws for the vessel TANGENT.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before July 30, 2001.

ADDRESSES: Comments should refer to docket number MARAD-2001-10001. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Public Law 105-383 provides authority to the Secretary of Transportation to administratively waive the U.S.-build requirements of the Jones Act, and other statutes, for small commercial passenger vessels (no more than 12 passengers). This authority has been delegated to the Maritime Administration per 49 CFR § 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-Build Requirement

(1) Name of vessel and owner for which waiver is requested. Name of vessel: TANGENT. Owner: M.G. Communication, Inc.

(2) Size, capacity and tonnage of vessel. According to the applicant: “Length: 50 foot Wood Grand Banks Trawler, Capacity: 12 passengers, Tonnage: Net of 45 tons and a gross of 57 tons.”

(3) Intended use for vessel, including geographic region of intended operation and trade. According to the applicant: The intended commercial use of this is to be: (a) Scuba Diving Instruction. (b) Sunset cruises. (c) Catered Dinner Cruises. (d) Live Aboard Weekend and week long cruises. (e) Intercoastal Waterway Live Aboard Cruises. (f) Bare boat charters. Note: The TANGENT is currently documented as a Vessel of Registry for international Charter operations. The proposed area of operation is to be from The West Coast of Florida, Pensacola Florida to Key West Florida and up the Eastern Seaboard to Cape Cod Massachusetts. The primary Charter area will be along the coast of Florida from Jacksonville, Florida to Key West, Florida to include the Dry Tourtogas.”

(4) Date and Place of construction and (if applicable) rebuilding. Date of construction: 1971. Place of construction: Kowloon, China (Hong Kong).

(5) A statement on the impact this waiver will have on other commercial passenger vessel operators. According to the applicant: “Over the last two years I have done a great deal of research on weather or not it would be practical to establish this type of operation. I found no other single business operation with our capability and diversity operating in the geographic area I have specified. I am sure that at least a couple have to exist in this area that I have not discovered. I found that with our boat rated as an uninspected vessel for 12 passengers or less we were one of very few that would be operating in the specified area. I found that from Jacksonville Florida to Jupiter Inlet only 2 live aboard operations were in service. I found 3 dive boat operations existed. From West Palm Beach Florida to Key West Florida I found 12 live aboard operations were in service. Most of these operations were much larger and were certified vessels which carried more than 12 passengers. I found 51 small charter businesses that that did nothing but diving charters. The greater majority of these vessels were certified vessels for more than 12 passengers. I found 1 Dinner Cruise vessel for 12 passengers or less and 1 dinner cruise operation operating with an uninspected vessel certification. I found 7 dinner cruise and sightseeing vessels all of which were large capacity certified vessels. None were in my class of vessel. I found 1 catered dinner cruise vessel in Key West Florida. I found no Inland waterway live aboard cruises operations in Florida and only one other operation operating out of Savanna Georgia. In the specified geographic area I have noted above the population base is somewhere around 12 million people. A single vessel such as TANGENT has no appreciable impact on the charter or boat manufacturing industry. As far as I am aware there are not manufacturers of Motor Yacht Trawlers in the United States at this time. Most vessels of this type are used as privately owned vessels for small intimate groups of friend or relatives and built outside of the United States. I know of no other Trawlers in commercial operation as charter vessels other than Bare Boat Charter businesses. The TANGENT is currently operational and meets all Coast Guard regulations to do business as a bare boat charter vessel.”

(6) A statement on the impact this waiver will have on U.S. shipyards. According to the applicant: “Due to the age of the vessel and the type of vessel it is it has absolutely no impact on United States Vessel builders.”

Dated: June 25, 2001.
By Order of the Maritime Administrator.
Joel C. Richard,
Secretary, Maritime Administration.

[FR Doc. 01-16303 Filed 6-27-01; 8:45 am]

BILLING CODE 4910-81-P